DEPARTMENT OF EDUCATION

Applications for New Awards; Modeling and Simulation Program

AGENCY: Office of Postsecondary Education, Department of Education.

ACTION: Notice.

SUMMARY: The Department of Education (Department) is issuing a notice inviting applications for fiscal year (FY) 2021 for Modeling and Simulation Program (MSP), Assistance Listing Number (ALN) 84.116S. This notice relates to the approved information collection under OMB control number 1894-0006.

DATES:

Applications Available: November 5, 2021.

Deadline for Transmittal of Applications: December 6, 2021.

ADDRESSES: For the addresses for obtaining and submitting an application, please refer to our Common Instructions for Applicants to Department of Education Discretionary Grant Programs, published in the Federal Register on February 13, 2019 (84 FR 3768) and available at https://www.govinfo.gov/content/pkg/Fr-2019-02-13/pdf/2019-02206.pdf.

FOR FURTHER INFORMATION CONTACT: Robin M. Dabney, U.S. Department of Education, 400 Maryland Avenue SW, Room 2B117, Washington, DC 20202-4260. Telephone: (202) 453-7908. Email: Robin.Dabney@ed.gov.

If you use a telecommunications device for the deaf (TDD) or a text telephone (TTY), call the Federal Relay Service (FRS), toll-free, at 1-800-877-8339.

SUPPLEMENTARY INFORMATION:

Full Text of Announcement

I. Funding Opportunity Description

Purpose of Program: The MSP is designed to promote the study of modeling and simulation at institutions of higher education by promoting the enhancement or development of modeling and simulation degree and certificate programs. Additionally, through this program, the Department will create a task force that will include the successful grantees and other content experts to raise awareness and help further define the study of modeling and simulation.

Background: The FY 2021 Consolidated Appropriations Act includes funding for the Modeling and Simulation Program as authorized under section 891 of the Higher Education Act of 1965, as amended (HEA). Modeling and simulation programs utilize simulated interactive models to improve experiential learning in the classroom that represents real-world scenarios. According to the explanatory statement accompanying the FY 2021 Consolidated Appropriations Act, modeling and simulation technology has numerous applications for Federal and State governments and their partners in the defense, education, gaming, shipbuilding, and workforce training sectors, allowing them to generate data to help make decisions or predictions about their systems.¹ These programs aid in the development of tools or techniques in numerous industries where education and training for high-risk or dangerous situations are not realistic. This program seeks to fund the development or enhancement of degree programs focused on modeling and simulation. Through grant support, we hope to increase the availability and capacity of such programs in today's world.

¹ H. Rept. 116-450 (2020).

In addition, the MSP will include the creation of a task force to provide input into the development of curriculum and research on the instructional methods and pedagogy needed to further develop modeling and simulation programs. Applicants funded under this program will be members of the task force, and should include funding requests in their budgets for activities associated with task force membership, in addition to the amount requested for program implementation. In accordance with section 891(b)(1) of the HEA, the activities of the task force will include helping to define the study of modeling and simulation (including the content of modeling and simulation classes and programs); identifying best practices for such study; identifying core knowledge and skills that individuals who participate in modeling and simulation programs should acquire; and providing recommendations to the Secretary. The budget for participation in the task force should be included in the budget narrative and should include travel for at least two to three grantee representatives for two to three in-person meetings and/or site visits to organizations using modeling and simulation technologies to help expand awareness. Budgets should also include costs related to the development of white papers and/or other resources so that grantees can share the knowledge gained through their funded programs, as well as other lessons learned from the task force convenings.

Priorities: This notice contains two absolute priorities. Applicants may only apply under one of the two absolute priorities.

We are establishing these priorities for the FY 2021 grant competition and any subsequent year in which we make awards from the list of unfunded applications from this competition in accordance with section 437(d)(1) of the General Education Provisions Act (GEPA), 20 U.S.C. 1232(d)(1).

Absolute Priorities: These priorities are absolute priorities. Under 34 CFR 75.105(c)(3), we consider only applications that meet one of these priorities. Applicants must specify which absolute priority they are responding to in their application abstract.

These priorities are:

Absolute Priority 1—Enhancing Modeling and Simulation at Institutions of Higher Education.

To be considered for a grant under this absolute priority, an eligible institution must include in its application—

(a) A letter from the president or provost of the eligible institution that demonstrates the institution's commitment to the enhancement of the modeling and simulation program at the institution of higher education;

(b) An identification of designated faculty responsible for the enhancement of the institution's modeling and simulation program;

(c) A detailed plan for how the grant funds will be used to enhance a modeling and simulation program that ensures accessibility for students with disabilities;

(d) A listing of line-item costs associated with task force activities, which must include travel for at least two to three annual meetings to be held in Washington, DC and costs associated with a white paper outlining lessons learned from the enhanced modeling and simulation program;

(e) A commitment of a 25 percent cost match for this program. Each eligible institution receiving a grant under this priority must provide, from non-Federal sources, in cash or in-kind, an amount equal to 25 percent of the amount of the grant to carry out the activities supported by the grant; and

(f) Evidence that the institution has an established modeling and simulation degree program, including a major, minor, or career-track program; or has an established modeling and simulation certificate or concentration program.

Absolute Priority 2—Establishing Modeling and Simulation Programs.

To be considered for a grant under this absolute priority, an eligible institution must include in its application—

(a) A letter from the president or provost of the eligible institution that demonstrates the institution's commitment to the establishment of a modeling and simulation program at the institution of higher education;

(b) A detailed plan for how the grant funds will be used to establish a modeling and simulation program that ensures accessibility for students with disabilities;

(c) A description of how the modeling and simulation program established under this priority will complement existing programs and fit into the institution's current program and course offerings;

(d) A listing of line-item costs associated with task force activities, which must include travel for at least two to three annual meetings to be held in Washington, DC, and costs associated with a white paper outlining lessons learned from the established modeling and simulation program; and

(e) A commitment of a 25 percent cost match for this program. Each eligible institution receiving a grant under this subsection must provide, from non-Federal sources, in cash or in-kind, an amount equal to 25 percent of the amount of the grant to carry out the activities supported by the grant.

Definitions: We are establishing the definition of “modeling and simulation” for the FY 2021 grant competition and any subsequent year in which we make awards from the list of unfunded applications from this competition, in accordance with section 437(d)(1) of GEPA. This definition expands upon the definition in section 891 of the HEA to provide further clarity consistent with the purpose of the program. The remaining definitions are from 34 CFR 77.1.

Demonstrates a rationale means a key project component included in the project's logic model is informed by research or evaluation findings that suggest the project component is likely to improve relevant outcomes.

Logic model (also referred to as a theory of action) means a framework that identifies key project components of the proposed project (i.e., the active “ingredients” that are hypothesized to be critical to achieving the relevant outcomes) and describes the theoretical and operational relationships among the key project components and relevant outcomes.

Note: In developing logic models, applicants may want to use resources such as the Regional Educational Laboratory Program's (REL Pacific) Education Logic Model Application, available at https://ies.ed.gov/ncee/edlabs/regions/pacific/elm.asp.

Other sources include: https://ies.ed.gov/ncee/edlabs/regions/pacific/pdf/REL_2014025.pdf, https://ies.ed.gov/ncee/edlabs/regions/pacific/pdf/REL_2014007.pdf, and https://ies.ed.gov/ncee/edlabs/regions/northeast/pdf/REL_2015057.pdf.

Modeling and simulation means a field of study that is related to the application of computer science and mathematics to develop a level of understanding of the interaction of the parts of a system and of a system as a whole and that uses models (e.g., physical, mathematical, or logical representations of a system, entity, phenomenon, or process) as a basis for simulations to develop data utilized for managerial or technical decision making.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program, and therefore qualifies for this exemption. In order to ensure timely grant awards, the Secretary has decided to forgo public comment on the priorities, definitions, and requirements, under section 437(d)(1) of GEPA.

Program Authority: 20 U.S.C. 1161v; 20 U.S.C. 1138-1138d; Departments of Labor, Health and Human Services, and Education and Related Agencies Appropriations Act, 2021, H.R. 7614, 116th Congress (2020); the explanatory statement accompanying H.R. 133 (Pub. L. 116-260).

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grant.

Estimated Available Funds: $6,930,000. Approximately fifty percent of available funds will be used to fund an award under Absolute Priority 1, and approximately 50 percent will be used to fund an award under Absolute Priority 2.

Contingent upon the availability of funds and the quality of applications, we may make additional awards in subsequent years from the list of unfunded applications from this competition.

Estimated Range of Awards: $750,000 to $1,155,000 for a performance period of 36 months.

Estimated Average Award Size: $866,250.

Maximum Award: $1,155,000 for a performance period of 36 months.

Note: Applicants may include in their award requests up to 10 percent for activities related to task force participation.

Estimated Number of Awards: 8.

Note: The Department is not bound by any estimates in this notice.

Project Period: Up to 36 months.

III. Eligibility Information

1. Eligible Applicants: A public or private nonprofit institution of higher education, as defined in section 101(a) of the HEA.

2. a. Cost Sharing or Matching: In accordance with the requirements in section 891(c)(1)(D) and (d)(1)(D) of the HEA, each eligible institution receiving a grant under this program must provide, from non-Federal sources, in cash or in-kind, an amount equal to 25 percent of the amount of the grant to carry out the activities supported by the grant.

b. Supplement-Not-Supplant: This competition involves supplement-not-supplant funding requirements. This program uses the waiver authority of section 437(d)(1) of GEPA to establish this as a supplement-not-supplant program. Grant funds must be used so that they supplement and, to the extent practical, increase the funds that would otherwise be available for the activities to be carried out under this program.

c. Indirect Cost Rate Information: For the FY 2021 grant competition and any subsequent year in which we make awards from the list of unfunded applications from this competition, in accordance with section 437(d)(1) of GEPA, a grantee's indirect cost reimbursement is limited to eight percent (8%) of a modified total direct cost base. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Modeling and Simulation Program, your application may include business information that you consider proprietary. In 34 CFR 5.11 we define “business information” and describe the process we use in determing whether any of that information is proprietary and, thus, protected from disclosure under Exemption 4 of the Freedom of Information Act (5 U.S.C. 552, as amended).

Because we plan to make successful applications available to the public, you may wish to request confidentiality of business information.

Consistent with Executive Order 12600, please designate in your application any information you believe is exempt from disclosure under Exemption 4. In the appropriate Appendix section of your application under “Other Attachments Form,” please list the page number or numbers on which we can find this information. For additional information please see 34 CFR 5.11(c).

3. Intergovernmental Review: This program is subject to Executive Order 12372 and the regulations in 34 CFR part 79. However, under 34 CFR 79.8(a), we waive intergovernmental review in order to make awards by December 31, 2021.

4. Funding Restrictions: A grant awarded under Absolute Priority 1, Enhancing Modeling and Simulation at IHEs, must be used by an eligible institution to enhance modeling and simulation programs at the institution, which may include—

(a) Expanding the multidisciplinary nature of the institution's modeling and simulation programs;

(b) Recruiting students into the field of modeling and simulation through the provision of fellowships or assistantships;

(c) Creating new courses to complement existing courses and reflect emerging developments in the modeling and simulation field;

(d) Conducting research to support new methodologies and techniques in modeling and simulation; and

(e) Purchasing equipment necessary for modeling and simulation programs.

A grant awarded under Absolute Priority 2, Establishing Modeling and Simulation at IHEs, must be used by an eligible institution to enhance modeling and simulation programs at the institution, which may include—

(a) Establishing, or working toward the establishment of, a modeling and simulation program, including a major, minor, career-track, certificate, or concentration program at the eligible institution;

(b) Providing adequate staffing to ensure the successful establishment of the modeling and simulation program, which may include the assignment of full-time dedicated or supportive faculty; and

(c) Purchasing equipment necessary for modeling and simulation programs.

We reference regulations outlining additional funding restrictions in the Applicable Regulations section of this notice.

5. Recommended Page Limit: The application narrative is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger, and no smaller than 10-pitch (characters per inch).

• Use one of the following fonts: Times New Roman, Courier, Courier New, or Arial.

The recommended page limit does not apply to Part I, the cover sheet; Part II, the budget section, including the narrative budget justification; Part IV, the assurances and certifications; or the one-page abstract. However, the recommended page limit does apply to all of the application narrative Part III.

V. Application Review Information

1. Selection Criteria: The selection criteria for this competition are from 34 CFR 75.210. The points assigned to each criterion are indicated in the parentheses next to the criterion. An application may earn up to a total of 100 points based on the selection criteria. All applications will be evaluated based on the selection criteria as follows:

(a) Significance. (Maximum 25 points)

(1) The Secretary considers the significance of the proposed project.

(2) In determining the significance of the proposed project, the Secretary considers the following factors:

(i) The extent to which the proposed project is likely to yield findings that may be utilized by other appropriate agencies and organizations. (up to 5 points)

(ii) The extent to which the proposed project involves the development or demonstration of promising new strategies that build on, or are alternatives to, existing strategies. (up to 10 points)

(iii) The extent to which the results of the proposed project are to be disseminated in ways that will enable others to use the information or strategies. (up to 10 points)

(b) Quality of the project design. (Maximum 50 points)

(1) The Secretary considers the quality of the design of the proposed project.

(2) In determining the quality of the design of the proposed project, the Secretary considers the following factors:

(i) The extent to which there is a conceptual framework underlying the proposed research or demonstration activities and the quality of that framework. (up to 10 points)

(ii) The extent to which the proposed activities constitute a coherent, sustained program of training in the field. (up to 10 points)

(iii) The extent to which the proposed project is designed to build capacity and yield results that will extend beyond the period of Federal financial assistance. (up to 10 points)

(iv) The extent to which the proposed project represents an exceptional approach to the priorities established for the competition. (up to 10 points)

(v) The extent to which the proposed project demonstrates a rationale (as defined in this notice). (up to 10 points)

(c) Quality of project personnel. (Maximum 5 points)

(1) The Secretary considers the quality of the personnel who will carry out the proposed project.

(2) In determining the quality of project personnel, the Secretary considers the extent to which the applicant encourages applications for employment from persons who are members of groups that have traditionally been underrepresented based on race, color, national origin, gender, age, or disability. (up to 2 points)

(3) In addition, the Secretary considers the qualifications, including relevant training and experience, of the project director or principal investigator. (up to 3 points)

(d) Adequacy of resources. (Maximum 5 points)

(1) The Secretary considers the adequacy of the resources for the proposed project.

(2) In determining the adequacy of resources for the proposed project, the Secretary considers the adequacy of support, including facilities, equipment, supplies, and other resources, from the applicant organization or the lead applicant organization.

(e) Quality of the management plan. (Maximum 5 points)

(1) The Secretary considers the quality of the management plan for the proposed project.

(2) In determining the quality of the management plan for the proposed project, the Secretary considers the extent to which the time commitments of the project director and principal investigator and other key project personnel are appropriate and adequate to meet the objectives of the proposed project.

(f) Quality of the project evaluation. (Maximum 10 points)

(1) The Secretary considers the quality of the evaluation to be conducted of the proposed project.

(2) In determining the quality of the evaluation, the Secretary considers the following factors:

(i) The extent to which the methods of evaluation are thorough, feasible, and appropriate to the goals, objectives, and outcomes of the proposed project. (up to 5 points)

(ii) The extent to which the methods of evaluation will provide performance feedback and permit periodic assessment of progress toward achieving intended outcomes. (up to 5 points)

2. Review and Selection Process: We remind potential aplicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CRF 100.4, 104.5, 106.4, 108.8, and 110.23).

A panel of up to three non-Federal reviewers will review and score each application in accordance with the selection criteria. Award(s) will be made in rank order according to the average score received from the peer review for each absolute priority.

Tiebreaker. If there is more than one application with the same score and insufficient funds to fund all the applications with the same ranking, the first tiebreaker will be to select the applicant with the highest average score under the selection criterion Quality of Project Design. If a second tiebreaker is required, we will select the applicant with the highest average score under Adequacy of Resources. If a third tiebreaker is required, we will select the applicant with the highest average score under Significance.

3. Risk Assessment and Specific Conditions: Consistent with 2 CFR 200.206, before awarding grants under this competition, the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgement about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII to Part 200, require you to report certain integrity information to FAPIIS semiannually. Please review the requirements in 2 CFR part 200, Appendix XII to Part 200, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993 and for purposes of Department reporting under CFR 75.110, the Department will use the following performance measures to evaluate the success of the MSP:

(a) The number of students enrolled in the established modeling and simulation programs, including major, minor, career-track, certificate, and concentration programs.

(b) The number of new modeling and simulation courses developed under the MSP that reflect emerging developments in the modeling and simulation field.

VII. Other Information

Accessible Format: On request to the program contact person listed under FOR FURTHER INFORMATION CONTACT, individuals with disabilities can obtain this document and a copy of the application package in an accessible format.

The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Michelle Asha Cooper,
Acting Assistant Secretary for Postsecondary Education.

[FR Doc. 2021-24360 Filed 11-4-21; 8:45 am]

BILLING CODE 4000-01-P